DEPARTMENT OF LABOR

Office of the Secretary

Submission for OMB Review; Comment Request

September 23, 2003.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by calling the Department of Labor. To obtain documentation, contact Darrin King on 202-693-4129 (this is not a toll-free number) or e-mail: king.darin@dol.gov.

Comments should be sent to Office of Information and Regulatory Affairs, Attn: OMB Desk Officer for the Employment Standards Administration (ESA), Office of Management and Budget, Room 10235, Washington, DC 20503 (202-395-7316 / this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Extension of currently approved collection.

Agency: Employment Standards Administration.

Title: Regulations Governing the Administration of the Longshore and Harbor Workers' Compensation Act.

OMB Number: 1215-0160.

Affected Public: Individuals or households and Business or other for-profit.

Frequency: On occasion and Annually.

Type of Response: Recordkeeping and Reporting.

Number of Respondents: 170,564.

Information Collection | Annual Responses | Average Response Time (Hours) | Annual Burden Hours
LS-200, Report of Earnings | 12,800 | 0.17 | 2,176
LS-200, Report of Earnings with no earnings information to report | 3,200 | 0 | 0
Liens | 10 | 0.5 | 5
Certifications | 5 | 0.75 | 4
Reinstatements | 2 | 0.5 | 1
Settlement Applications | 4,500 | 2 | 9,000
Section 8(f) Payments | 550 | 5 | 2,750
ESA-100 (LS), Annual Report | 42,000 | 0.02 | 840
LS-271, Application for Self-Insured Employer | 20 | 2 | 40
LS-274, Report of Injury Experience of Self-Insured Employer | 412 | 1 | 412
LS-201, Notice of Employee's Injury of Death | 4,500 | 0.25 | 1,125
LS-513, Report of Payments | 900 | 0.5 | 450
LS-267, Claimant's Statement | 1,300 | 0.033 | 43
LS-203, Employee's Claim for Compensation | 10,125 | 0.25 | 2,531
LS-204, Attending Physician's Supplementary Report | 90,000 | 0.5 | 45,000
LS-262, Claim for Death Benefits | 240 | 0.25 | 60
Total | 170,564 |  | 64,437

Total Annualized Capital/Startup Costs: $0.

Total Annual Costs (operating/maintaining systems or purchasing services): $56,984.

Description: The Longshore and Harbor Workers' Compensation Act, as amended (Pub. L. 98-426) pertains to the provision of benefits to workers injured in maritime employment on the navigable waters of the United States or in an adjoining area customarily used by an employer in loading, unloading, repairing, or building a vessel, as well as coverage extended to certain other employees. The regulations and associated forms cover the submission of information necessary for the processing of claims for benefits under the Longshore Act.

Ira L. Mills,
Departmental Clearance Officer.

[FR Doc. 03-25108 Filed 10-2-03; 8:45 am]

BILLING CODE 4510-23-P